DEPARTMENT OF THE TREASURY

Office of Thrift Supervision

[AC-20: OTS Nos. 17022, H3882, H3883, and H4438]

Atlantic Coast Bank, Atlantic Coast Federal, M.H.C., Atlantic Coast Federal Corporation, and Atlantic Coast Financial Corporation, Waycross, Georgia; Approval of Conversion Application

Notice is hereby given that on October 12, 2007, the Office of Thrift Supervision approved the application of Atlantic Coast Federal, M.H.C., and Atlantic Coast Bank, Waycross, Georgia, to convert to the stock form of organization. Copies of the application are available for inspection by appointment (phone number: 202-906-5922 or e-mail: Public.Info@OTS.Treas.gov) at the Public Reading Room, 1700 G Street, NW., Washington, DC 20522, and OTS Southeast Regional Office, 1475 Peachtree Street, NE., Atlanta, GA 30309.

Dated: November 5, 2007.
By the Office of Thrift Supervision.
Sandra E. Evans,
Federal Register Liaison Officer.

[FR Doc. 07-5604 Filed 11-8-07; 8:45 am]

BILLING CODE 6720-01-M